DEPARTMENT OF ENERGY

Federal Energy Regulatory Commission

[Project No. 15287-000]

HGE Energy Storage 3 LLC; Notice of Preliminary Permit Application Accepted for Filing and Soliciting Comments, Motions To Intervene, and Competing Applications

On September 27, 2022, HGE Energy Storage LLC, filed an application for a preliminary permit, pursuant to section 4(f) of the Federal Power Act (FPA), proposing to study the feasibility of the Fort Ross Pumped Storage Project to be located in Sonoma County, California, adjacent to the Pacific Ocean, approximately 1.5 miles northwest of Fort Ross State Historic Park. The sole purpose of a preliminary permit is to grant the permit holder priority to file a license application during the permit term. A preliminary permit does not authorize the permit holder to perform any land-disturbing activities or otherwise enter upon lands or waters owned by others without the owners' express permission.

The pumped storage hydropower project will consist of: (1) a new upper reservoir with a surface area of 23 acres and a storage volume of 5,600 acre-feet at a maximum water-surface elevation of 1,500 feet mean sea level; (2) a 12,000 foot-long, 10-foot-diameter steel-lined conduit that connects the reservoir to the powerhouse; (3) a 250-foot-long, 30-foot-wide, 100-foot-high, steel-reinforced concrete powerhouse constructed 100 feet below ground level, with five 250-megawatt (MW) reversible variable-speed pump-turbines, with a combined installed capacity of 1,250-MW that discharge into the Pacific Ocean; (4) a 100-foot-high, 30-foot-wide vertical access tunnel from ground level to the powerhouse; (5) a vertical intake structure and breakwater of undetermined size and design to lead from the tailrace to the powerhouse and to dissipate discharge energy; (6) a 500-foot-long, 250-foot-wide concrete-lined tailrace; and (7) a 0.5-mile-long, 69-kilovolt line extending from the powerhouse to a planned AC-DC converter station. The estimated annual energy production of the project would be approximately 3,714,406 megawatt-hours.

Applicant Contact: Mr. Wayne Krouse, HGE Energy Storage 3 LLC, 2901 4th Avenue South, #B 253, Birmingham, AL 35233; email: wayne@hgenergy.com; phone: (877) 556-6566 X 709.

FERC Contact: Shannon Archuleta; email; shannon.archuleta@ferc.gov; phone (503) 552-2739.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202)502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters without prior registration using the eComment system at https://ferconline.ferc.gov/QuickComment.aspx. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15287-000.

More information about this project, including a copy of the application, can be viewed on the Commission's website (http://www.ferc.gov) using the “eLibrary” link. Enter the docket number (P-15287) in the docket number field to access the document. For assistance, do not hesitate to get in touch with FERC Online Support.

Dated: June 29, 2023.
Debbie-Anne A. Reese,
Deputy Secretary.

[FR Doc. 2023-14258 Filed 7-5-23; 8:45 am]

BILLING CODE 6717-01-P